DEPARTMENT OF JUSTICE

Drug Enforcement Administration

Manufacturer of Controlled Substances; Notice of Registration

By notice dated January 27, 2003, and published in the Federal Register on February 6, 2003 (68 FR 6184), National Center for Natural Products Research-NIDA MProject University of Mississippi, 135 Coy Waller Complex, University, Mississippi 38677, made application by renewal to the Drug Enforcement Administration to be registered as a bulk manufacturer of the basic classes of controlled substances listed below:

Drug | Schedule
Marijuana (7360) | I
Tetrahydrocannabinols (7370) | I

The firm will cultivate marijuana for the National Institute of Drug Abuse for research approved by the Department of Health and Human Services

No comments or objections have been received. DEA has considered the factors in title 21, United States Code, section 823(a) and determined that the registration of National Center for Natural Products Research-NIDA MProject University of Mississippi to manufacture the listed controlled substances is consistent with the public interest at this time. DEA has investigated National Center for Natural Products research-NIDA MProject University of Mississippi to ensure that the company's registration is consistent with the public interest. This investigation has included inspection and testing of the company's physical security systems, verification of the company's background and history. Therefore, pursuant to 21 U.S.C. 823 and 28 CFR 0.100 and 0.104, the Deputy Assistant Administrator, Office of Diversion Control, hereby orders that the application submitted by the above firm for registration as a bulk manufacturer of the basic classes of controlled substances listed above is granted.

Dated: June 6, 2003.
Laura M. Nagel,
Deputy Assistant Administrator, Office of Diversion Control, Drug Enforcement Administration.

[FR Doc. 03-15201 Filed 6-16-03; 8:45 am]

BILLING CODE 4410-09-M